DEPARTMENT OF COMMERCE

National Oceanic and Atmospheric Administration

50 CFR Part 622

[Docket No. 090225243-0170-03]

RIN 0648-AX67

Fisheries of the Caribbean, Gulf of Mexico, and South Atlantic; Reef Fish Fishery of the Gulf of Mexico; Amendment 31; Correction

AGENCY: National Marine Fisheries Service (NMFS), National Oceanic and Atmospheric Administration (NOAA), Commerce.

ACTION: Final rule; correction.

SUMMARY: This document contains a correction to the final rule to implement Amendment 31 to the Fishery Management Plan for the Reef Fish Resources of the Gulf of Mexico that was published in the Federal Register Monday, April 26, 2010.

DATES: This correction is effective May 26, 2010.

FOR FURTHER INFORMATION CONTACT: Scott Sandorf, 727-824-5305; fax: 727-824-5308; e-mail: scott.sandorf@noaa.gov.

SUPPLEMENTARY INFORMATION:

Need for Correction

On April 26, 2010, (75 FR 21520, April 26, 2010) an incorrect coordinate for Point G, in § 622.34 (q) was published and this document corrects that coordinate.

1. On page 21520, in the third column, under § 622.34 (q), the Point G coordinate is corrected to read as follows:

§ 622.34 Gulf EEZ seasonal and/or area closures.

(q) * * *

Point | North lat. | West long.
* * * * * |  |
G | 26°48.80′ | 83°40.00′
* * * * * |  |

Dated: May 18, 2010
Eric C. Schwaab,
Assistant Administrator For Fisheries, National Marine Fisheries Service.

[FR Doc. 2010-12383 Filed 5-21-10; 8:45 am]

BILLING CODE 3510-22-S